DEPARTMENT OF COMMERCE

National Oceanic and Atmospheric Administration

[Docket No. 040227075-5140-02; I.D. 060205A]

National Marine Fisheries Service National Gravel Extraction Guidance

AGENCY: National Marine Fisheries Service (NMFS), National Oceanic and Atmospheric Administration (NOAA), Commerce.

ACTION: Notice of availability.

SUMMARY: This notice announces the availability of NMFS' final National Gravel Extraction Guidance (Gravel Guidance). In March 2004, NMFS released the draft Gravel Guidance for public comment. Nine comment letters were received from industry groups, state agencies, and unaffiliated citizens. Final revisions to the Gravel Guidance included consideration of these public comments.

ADDRESSES: The final NMFS National Gravel Extraction Guidance may be obtained on the Internet at http://www.nmfs.noaa.gov/habitat/ or by sending a request to 1315 East West Highway, Room 14200, Silver Spring, MD 20910.

FOR FURTHER INFORMATION CONTACT: Katie McGlynn at 301-713-4300.

SUPPLEMENTARY INFORMATION: The purpose of the Gravel Guidance is to provide updated information to NMFS staff participating in consultation activities where proposed gravel mining operations in or near rivers and streams may affect anadromous fish under NMFS jurisdiction and their habitats. The final Gravel Guidance is a revision and replacement of the 1996 National Gravel Extraction Policy. Changes to the 1996 Policy, based on input from NMFS staff, interagency, industry, and public comments, include: (1) updating references, information, and recommendations to reflect the current state of the science; (2) broadening the geographic scope of the guidance to apply to all NMFS regions, rather than just those on the west coast; and (3) revising the document from a NMFS policy document to internal guidance for NMFS staff.

NOAA Fisheries is responsible for protecting, managing and conserving marine, estuarine, and anadromous fish resources and their habitats. The watersheds of the United States where sand and gravel mining takes place provide essential spawning and rearing habitat for anadromous fish including salmon, shad, sturgeon, and striped bass. A national guidance document on gravel extraction will assist NMFS staff in determining whether proposed gravel extraction operations will be conducted in a manner that is consistent with Federal law, and that eliminates or minimizes any adverse impacts to anadromous fish and their habitats.

The recommendations incorporated into the guidance document are suggestions, and are not intended to be binding in any way. The Gravel Guidance does not specify the measures, if any, that would need to be implemented by parties engaged in gravel extraction activities in any given case to comply with applicable statutory requirements. In formulating its recommendations or prescriptions, NMFS will determine the acceptable means of demonstrating compliance with statutory requirements based on information available to the agency, as appropriate under the circumstances presented. As such, the language of the guidance document should not be read to establish any binding requirements on agency staff or the regulated community. Nor should the recommendations be regarded as static or inflexible. The recommendations are meant to be revised as the science upon which they are based improves and areas of uncertainty are resolved. The recommendations are also meant to be adapted for regional or local use, so a degree of flexibility in their interpretation and application is necessary.

The notice of availability of the draft National Gravel Extraction Guidelines was published in the Federal Register on March 18, 2004 (69 FR 12837).

Dated: June 10, 2005.
Rebecca Lent
Deputy Assistant Administrator for Regulatory Programs, National Marine Fisheries Service.

[FR Doc. 05-12021 Filed 6-16-05; 8:45 am]

BILLING CODE 3510-22-S